FEDERAL COMMUNICATIONS COMMISSION

47 CFR Part 73

[DA 01-2057; MM Docket No. 01-217, RM-10236; MM Docket No. 01-218, RM-10237; MM Docket No. 01-219, RM-10238; MM Docket No. 01-220, RM-10239]

Radio Broadcasting Services; Hollis, OK; Mangum, OK; Rule, TX; and Santa Anna, TX

AGENCY: Federal Communications Commission.

ACTION: Proposed rule.

SUMMARY: This document proposes four allotments in Hollis, OK, Mangum, OK, Rule, TX, and Santa Anna, TX. The Commission requests comments on a petition filed by Jeraldine Anderson, proposing the allotment of Channel 274C2 at Hollis, Oklahoma, as the community's second FM allotment. There is currently one vacant FM allotment at Hollis for Channel 223A. Channel 274C2 can be allotted to Hollis in compliance with the Commission's minimum distance separation requirements with a site restriction of 15.7 km (9.7 miles) south of Hollis. The coordinates for Channel 274C2 at Hollis are 34-32-55 North Latitude and 99-56-12 West Longitude. See SUPPLEMENTARY INFORMATION infra.

DATES: Comments must be filed on or before October 22, 2001, and reply comments on or before November 6, 2001.

ADDRESSES: Federal Communications Commission, Washington, DC 20554. In addition to filing comments with the FCC, interested parties should serve the petitioner as follows: Jeraldine Anderson, 1702 Cypress Drive, Irving, Texas 75061.

FOR FURTHER INFORMATION CONTACT: Deborah A. Dupont, Mass Media Bureau (202) 418-7072.

SUPPLEMENTARY INFORMATION: This is a synopsis of the Commission's Notice of Proposed Rule Making, MM Docket Nos. 01-217, 01-218, 01-219, and 01-220; adopted August 22, 2001, and released August 31, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, N.W., Washington, D.C. 20036.

The Commission requests comment on a petition filed by Jeraldine Anderson proposing the allotment of Channel 259C2 at Mangum, Oklahoma, as the community's first competing FM transmission service. Channel 259C2 can be allotted to Mangum in compliance with the Commission's minimum distance separation requirements with a site restriction of 25 km (15.5 miles) west of Mangum. The coordinates for Channel 259C2 at Mangum are 34-53-28 North Latitude and 99-46-33 West Longitude.

The Commission further requests comment on a petition filed by Jeraldine Anderson proposing the allotment of Channel 253A at Rule, Texas, as the community's first competing FM transmission service. (A rulemaking is pending in another proceeding to consider allocation of Channel 239A as a first FM transmission service.) Channel 253A can be allotted to Rule in compliance with the Commission's minimum distance separation requirements with a site restriction of 3.2 km (2 miles) southwest of Rule. The coordinates for Channel 253A at Rule are 33-10-17 North Latitude and 99-55-24 West Longitude.

The Commission further requests comment on a petition filed by Jeraldine Anderson proposing the allotment of Channel 282A at Santa Anna, Texas, as the community's first competing FM transmission service. Channel 282A can be allotted to Santa Anna in compliance with the Commission's minimum distance separation requirements with a site restriction of 8.5 km (5.3 miles) southeast of Santa Anna. The coordinates for Channel 282A at Rule are 31-40-36 North Latitude and 99-16-25 West Longitude. The proposed allotment will require concurrence by Mexico because Santa Anna is located within 320 kilometers (199 miles) of the Mexican border.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1.The authority citation for part 73 continues to read as follows:

Authority: 47 U.S.C. 154, 303, 334 and 336.

§ 73.202 [Amended]

2. Section 73.202(b), the Table of FM Allotments under Oklahoma, is amended by adding Channel 274C2 at Hollis and by adding Channel 259C2 at Mangum.

3. Section 73.202(b), the Table of FM Allotments under Texas, is amended by adding Rule, Channel 253A and by adding Channel 282A at Santa Anna.

Federal Communications Commission.
John A. Karousos,
Chief, Allocations Branch, Policy and Rules Division, Mass Media Bureau.

[FR Doc. 01-22836 Filed 9-11-01; 8:45 am]

BILLING CODE 6712-01-P